DEPARTMENT OF TRANSPORTATION

Federal Aviation Administration

14 CFR Part 25

[Docket No. NM253, Special Conditions No. 25-235-SC]

Special Conditions: Raytheon Aircraft Company HS 125 Series 700A and 700B Airplanes; High Intensity Radiated Fields (HIRF)

AGENCY: Federal Aviation Administration (FAA), DOT.

ACTION: Final special conditions; request for comments; Correction

SUMMARY: This document makes corrections to a Final special conditions; request for comment document published in the Federal Register on May 19, 2003 (68 FR 26991), which issued special conditions for the Raytheon Aircraft Company Model HS 125 Series 700A and 700B airplanes modified by Raytheon Aircraft Services, Inc., for protection from HIRF.

FOR FURTHER INFORMATION CONTACT: Jan Thor, FAA, Standardization Branch, ANM-113, Transport Airplane Directorate, Aircraft Certification Service, 1601 Lind Avenue, SW., Renton, Washington, 98055-4056; telephone (425) 227-21271 facsimile (425) 227-1330; or e-mail: jan.thor@faa.gov.

Correction

In Final special conditions; request for comment document FR Doc. 03-12376, published on May 19, 2003 (68 FR 26991), make the following correction:

1. On page 26991, in the third column, under the DATES section of the subject Final special conditions; request for comments document, correct “April 18, 2002” to read “April 18, 2003.”

Issued in Renton, Washington, on June 4, 2003.
Kalene C. Yanamura,
Acting Manager, Transport Airplane Directorate, Aircraft Certification Service.

[FR Doc. 03-15000 Filed 6-12-03; 8:45 am]

BILLING CODE 4910-13-M